DEPARTMENT OF COMMERCE

International Trade Administration

[A-201-834]

Purified Carboxymethylcellulose from Mexico: Final Results of the Antidumping Duty Administrative Review

AGENCY: Import Administration, International Trade Administration, Department of Commerce.

SUMMARY: On August 7, 2007, the Department of Commerce (the Department) published the preliminary results of the administrative review of the antidumping duty order on purified carboxymethylcellulose (CMC) from Mexico. See Purified Carboxymethylcellulose From Mexico: Notice of Preliminary Results of Antidumping Duty Administrative Review, 72 FR 44095 (August 7, 2007) (Preliminary Results). The review covers exports of the subject merchandise to the United States produced and exported by Quimica Amtex S.A. de C.V. (Amtex). We invited interested parties to comment on the preliminary results. Based upon our analysis of the comments received from parties, we have made changes in the margin calculation for the final results of this review. The final weighted-average margin is listed below in the “Final Results of Review” section of this notice.

EFFECTIVE DATE: December 11, 2007.

FOR FURTHER INFORMATION CONTACT: Mark Flessner or Robert James, AD/CVD Operations, Office 7, Import Administration, International Trade Administration, U.S. Department of Commerce, 14th Street and Constitution Avenue, NW, Washington, DC 20230; telephone: (202) 482-6312 or (202) 482-0649, respectively.

SUPPLEMENTARY INFORMATION:

Background

On August 7, 2007, the Department published the preliminary results of the administrative review and invited interested parties to comment. See Preliminary Results. On September 6, 2007, respondent Amtex filed a case brief in which the company alleges a ministerial error in our margin calculation. Also on September 6, 2007, petitioner The Aqualon Company, a division of Hercules, Inc. (Aqualon), filed a “Demonstration of Programming Errors in Lieu of Case Brief” in which the company alleges two ministerial errors in the calculation.

Period of Review

The period of review (POR) is December 27, 2004, through June 30, 2006.

Scope of the Order

The merchandise covered by this order is all purified carboxymethylcellulose (CMC), sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to this order is classified in the Harmonized Tariff Schedule of the United States at subheading 3912.31.00. This tariff classification is provided for convenience and customs purposes; however, the written description of the scope of the order is dispositive.

Changes Since the Preliminary Results

SG&A and Interest Expense

In accordance with section 773(a)(4) of the Tariff Act of 1930 (the Tariff Act), we base normal value (NV) on constructed value (CV) if we are unable to find a contemporaneous comparison market match of such or similar merchandise for the U.S. sale. Section 773(e) of the Tariff Act provides that CV shall be based on the sum of the cost of materials and fabrication employed in making the subject merchandise, SG&A expenses, profit, and U.S. packing costs. Since there was no cost allegation in this administrative review, no section D questionnaire was issued to Amtex. Therefore, we relied upon the costs of materials and fabrication as reported by Amtex in its sections A, B, and C responses and supplemental response to calculate CV (for those sales which were not matched to home market sales). However, Amtex's responses did not provide all the data necessary for us to compute CV profit. For the preliminary results, we calculated a CV profit using Amtex's 2001-2002 and 2005 audited financial statements, as submitted in the most recent segment of these proceedings. See Notice of Antidumping Duty Orders: Purified Carboxymethylcellulose from Finland, Mexico, the Netherlands, and Sweden, 70 FR 39734 (July 11, 2005); see also Frozen Concentrated Orange Juice from Brazil: Final Results and Partial Rescission of Antidumping Duty Administrative Review, 66 FR 51008 (October 5, 2001) and the accompanying Issues and Decision Memorandum at Comment 3.

On August 24, 2007, Amtex submitted its audited 2006 financial statement. Therefore, we have used Amtex's 2006 cost data for SG&A and net interest expenses in order to derive CV for these final results. See Analysis Memorandum for the Final Results of the Administrative Review of the Antidumping Duty Order on Carboxymethylcellulose from Mexico dated December 5, 2007 (Final Results Analysis Memorandum), at 3-4.; see also Analysis Memorandum for the Preliminary Results of the Administrative Review of the Antidumping Duty Order on Carboxymethylcellulose from Mexico dated July 31, 2007 (Preliminary Results Analysis Memorandum), at 10-13. Public versions of these memoranda are on file in the Department's Central Records Unit (CRU) located in Room B-099 of the main Department of Commerce Building, 14th Street and Constitution Avenue, NW, Washington, DC 20230.

Conversion Error in Calculation of DIFMER

In accordance with section 19 C.F.R. 351.411, we make a reasonable allowance for merchandise sold in the United States that does not have the same physical characteristics as the merchandise sold in the foreign market if we determine that the difference has an effect on prices when computing NV. This is reflected in the programming as difference in merchandise (DIFMER). In its case brief, Amtex contends that the Department failed to convert DIFMER adjustments to a per-pound basis in calculating the foreign unit price in dollars (FUPDOL). As all comparisons in this review are made on a per-pound basis, we therefore agree with Amtex and have made the conversion for the final results. See Final Results Analysis Memorandum at 2.

Subtraction Error in Calculating FUPDOL

In its “Demonstration of Programming Errors in Lieu of Case Brief,” Aqualon contends that the Department inadvertently added rather than subtracted DIFMER in the FUPDOL calculation as would be appropriate. We agree with Aqualon, and have, in keeping with the Department's standard programming language, subtracted DIFMER in the FUPDOL calculation for the final results. See Final Results Analysis Memorandum at 2-3. However, we have used programming language that is different from that suggested by Aqualon because Aqualon's language would add rather than subtract any level of trade adjustment (LOTADJMT) from comparison market net price (CMNETPRI).¹

¹ Section 773(a)(7)(A) of the Tariff Act allows the Department to add or subtract any level of trade adjustment (LOTADJ). The Department's standard programming language subtracts the LOTADJ from home market price. In this administrative review, there is no LOTADJ; therefore, it is mathematically irrelevant whether the zero value is added or subtracted. We have determined, however, to keep the FUPDOL string consistent with the standard programming language.

CEPICCU and CEPINDU Adjustments

Also in its “Demonstration of Programming Errors in Lieu of Case Brief,” Aqualon contends that the Department inadvertently set constructed export price imputed inventory carrying costs (CEPICCU) and indirect selling expenses incurred in the United States (CEPINDU) to zero. We agree with Aqualon, and have set CEPICCU to equal inventory carrying costs (INVCARU) and set CEPINDU to equal U.S. indirect selling expenses (INDIRSU) in keeping with long-standing Department practice. See Final Results Analysis Memorandum at 3.

Final Results of Review

As a result of our review, we determine that the following weighted-average dumping margin exists for the period December 27, 2004 through June 30, 2006:

Producer | POR | Weighted-Average Margin (percent)
Quimica Amtex, S.A. de C.V. | 12/27/04 - 06/30/06 | 2.51

Assessment Rates

The Department shall determine, and U.S. Customs and Border Protection (CBP) shall assess, antidumping duties on all appropriate entries. In accordance with 19 CFR 351.212(b)(1), we will issue importer-specific assessment instructions for entries of subject merchandise during the period of review. The Department will issue appropriate assessment instructions directly to CBP 15 days after publication of the final results of review.

The Department clarified its “automatic assessment” regulation on May 6, 2003 (68 FR 23954). This clarification will apply to entries of subject merchandise during the period of review produced by Amtex for which it did not know that the merchandise sold to the intermediary was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash-Deposit Requirements

The following deposit requirements will be effective upon publication of this notice of final results of administrative review for all shipments of CMC entered, or withdrawn from warehouse, for consumption on or after the publication date of the final results, as provided by section 751(a)(1) of the Tariff Act: (1) the cash-deposit rate for Amtex will be 2.51 percent; (2) if the exporter is not a firm covered in this review or the less-than-fair-value investigation but the manufacturer is, the cash-deposit rate will be the rate established for the most recent period for the manufacturer of the merchandise; (3) if neither the exporter nor the manufacturer has its own rate, the cash-deposit rate will be 12.61 percent, the all-others rate for this proceeding published in the final less-than-fair-value investigation. See Notice of Antidumping Duty Orders: Purified Carboxymethylcellulose from Finland, Mexico, the Netherlands, and Sweden, 70 FR 39734 (July 11, 2005). These deposit requirements shall remain in effect until further notice.

Notification to Importers

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

Notification Regarding APOs

This notice also serves as a reminder to parties subject to administrative protective orders (APO) of their responsibility concerning the disposition of proprietary information disclosed under APO as explained in the APO itself. See also 19 CFR 351.305(a)(3). Timely written notification of the return/destruction of APO materials or conversion to judicial protective order is hereby requested. Failure to comply with the regulations and terms of an APO is a sanctionable violation.

We are publishing these final results of administrative review and notice in accordance with sections 751(a)(1) and 777(i)(1) of the Tariff Act.

Dated: December 3, 2007.
Stephen J. Claeys,
Acting Assistant Secretary for Import Administration.

[FR Doc. E7-23969 Filed 12-10-07; 8:45 am]

BILLING CODE 3510-DS-S